DEPARTMENT OF TRANSPORTATION

National Highway Traffic Safety Administration

[Docket No. NHTSA-2000-7163; Notice 1]

Evenflo Company, Inc.; Receipt of Application for Decision of Inconsequential Noncompliance

Evenflo Company, Inc. of Vandalia, Ohio, has determined that 678,404 child restraint systems fail to comply with Federal Motor Vehicle Safety Standard (FMVSS) No. 213, “Child Restraint Systems,” and has filed an appropriate report pursuant to 49 CFR Part 573, “Defect and Noncompliance Reports.” Evenflo has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgement concerning the merits of the application.

FMVSS No. 213, S5.5.2(j), requires each child restraint system equipped with an anchorage strap to include the following statement on a permanent label:

Secure the top anchorage strap provided with this child restraint as specified in the manufacturer's instructions.

Evenflo has determined that certain child restraints it manufactured have been shipped without the label required by S5.5.2(j). The child restraints containing the noncompliance are Ultara (model numbers 234, 235, 236, 237, 238, and 239), Champion (model numbers 247 and 249), Medallion (model numbers 254 and 259), Horizon (model numbers 420, 425, and 426), and Conquest (model numbers 428 and 429) child restraints equipped with tether straps that were manufactured between 1998 and 2000, and shipped before February 14, 2000. A total of 648,739 units are in noncompliance.

Evenflo supports its application for inconsequential noncompliance with the following:

On February 11, 2000, Evenflo personnel were reviewing the Federal Register and came upon Kolcraft Enterprises, Inc.”s Receipt of Application for Decision of Inconsequential Noncompliance, Docket No. NHTSA-2000-6729; Notice 1. Upon reading the request, we initiated a review of our tethered child restraint systems for the NHTSA requirement and discovered the noncompliance.

Similar to Kolcraft, Evenflo inadvertently overlooked this provision when redesigning our restraints to include tether anchorage straps. Evenflo relied on the changes in the March 5, 1999 final rule to identify the changed performance requirements. Because S5.5.2(j) was already in the standard, and not changed by the March 5, 1999 final rule, the labeling requirement was overlooked by Evenflo.

Evenflo initiated the necessary changes, and all units produced on and after February 15, 2000 are conforming to the standard. Existing stock is being reworked to include the label. As previously stated the restraints do comply with all performance requirements of FMVSS 213.

In the instruction book attached to each restraint system are clear instructions on how to properly install the top anchorage strap, tether, with warning about improper installation. There already is one warning label stating “Warning! Failure to follow each of the instructions can result in your child striking the vehicle's interior during a sudden stop or crash...” on the units that refer the consumer to the instruction booklet and instructions for proper use along with the tether instructions.

Under Section 30118(d) of the Safety Act, the Secretary may exempt manufacturers from the Act's notification and remedy requirements when the Secretary determines that the noncompliance is inconsequential as it relates to motor vehicle safety. Evenflo believes that the noncompliance here should be found to be inconsequential because the product meets and exceeds FMVSS 213 performance regulations, there is a label on the unit referring consumers to the instructions for proper use, and the instructions provide a clear process for proper installation of the tether and warnings about improper installation.

Evenflo does not question the value of notifying consumers to check the instruction manual. Given the circumstances: a label exists referring the consumer to the instruction where the substance of the notification has been achieved, the label is located on the product where a consumer is likely to see it, a complete set of installation instructions with appropriate warnings accompanies each child restraint, and the product meets or exceeds all performance requirements, the noncompliance does not present a consequential risk to motor vehicle safety. Evenflo respectfully requests that NHTSA grant its petition for exemption.

Evenflo subsequently filed a supplement to its original petition for inconsequential noncompliance, identifying an additional 29,665 convertible child restraints with tethers it manufactured this year which do not comply with the labeling requirement of FMVSS No. 213, S5.5.3. FMVSS No. 213, S5.5.3, requires that “the information specified in S5.5.2(g) through (k) shall be located on the add-on child restraint system so that it is visible when the system is installed as specified in S5.6.1.” Evenflo notes that the affected child restraint systems do contain the necessary labeling specified in S5.5.2(j), however, the labeling may not be in a location which is visible after installation of the child restraint systems into the vehicle. The child restraints containing the noncompliance are Ultara (model numbers 235, 236, and 238), Champion (model numbers 247 and 249), Horizon (model numbers 425 and 426) and Conquest (model numbers 428 and 429) manufactured between February 14 and March 2, 2000.

Interested persons are invited to submit written data, views, and arguments on the application of Evenflo described above. Comments should refer to the docket number and be submitted to: U.S. Department of Transportation Docket Management, Room PL-401, 400 Seventh Street, SW, Washington, DC 20590. It is requested, but not required, that two copies be submitted.

All comments received before the close of business on the closing date indicated below will be considered. The application and supporting materials, and all comments received after the closing date, will also be filed and will be considered to the extent possible. When the application is granted or denied, the notice will be published in the Federal Register pursuant to the authority indicated below.

Comment closing date: June 2, 2000. (49 U.S.C. 30118 and 30120; delegations of authority at 49 CFR 1.50 and 501.8)

Issued on: April 27, 2000.
Stephen R. Kratzke,
Associate Administrator for Safety Performance Standards.

[FR Doc. 00-11047 Filed 5-2-00; 8:45 am]

BILLING CODE 4910-59-P